DEPARTMENT OF EDUCATION

Privacy Act of 1974; System of Records—Evaluation of the Pell Grant Experiments Under the Experimental Sites Initiative—2012

AGENCY: Institute of Education Sciences, Department of Education.

ACTION: Notice of a new system of records.

SUMMARY: In accordance with the Privacy Act of 1974, as amended (Privacy Act), the Department of Education (Department) publishes this notice of a new system of records entitled “Evaluation of the Pell Grant Experiments Under the Experimental Sites Initiative—2012” (18-13-31).

DATES: Submit your comments on this proposed new system of records on or before February 7, 2013.

The Department filed a report describing the new system of records covered by this notice with the Chair of the Senate Committee on Homeland Security and Governmental Affairs, the Chair of the House Committee on Oversight and Government Reform, and the Administrator of the Office of Information and Regulatory Affairs, Office of Management and Budget (OMB) on January 3, 2013. This system of records will become effective at the later date of: (1) The expiration of the 40-day period for OMB review on February 12, 2013, unless OMB waives 10 days of the 40-day review period for compelling reasons shown by the Department, or (2) February 7, 2013, unless the system of records needs to be changed as a result of public comment or OMB review.

ADDRESSES: Address all comments about this new system of records to Dr. Audrey Pendleton, Associate Commissioner, Evaluation Division, National Center for Education Evaluation and Regional Assistance, Institute of Education Sciences, U.S. Department of Education, 555 New Jersey Avenue NW., room 502D, Washington, DC 20208-0001. Telephone: (202) 208-7078. If you prefer to send comments through the Internet, use the following address: comments@ed.gov.

You must include the term “Pell Grant Experiments Under the Experimental Sites Initiative—2012” in the subject line of the electronic message.

During and after the comment period, you may inspect all comments about this notice at the U.S. Department of Education in room 502D, 555 New Jersey Avenue NW., Washington, DC, between the hours of 8:00 a.m. and 4:30 p.m., Eastern time, Monday through Friday of each week except Federal holidays.

Assistance to Individuals With Disabilities in Reviewing the Rulemaking Record

On request we will provide an appropriate accommodation or auxiliary aid to an individual with a disability who needs assistance to review the comments or other documents in the public rulemaking record for this notice. If you want to schedule an appointment for this type of accommodation or auxiliary aid, please contact the person listed under FOR FURTHER INFORMATION CONTACT.

FOR FURTHER INFORMATION CONTACT: Dr. Marsha Silverberg. Telephone: (202)208-7178. If you use a telecommunications device for the deaf (TDD) or text telephone (TTY), call the Federal Relay Service (FRS), toll free, at 1-800-877-8339.

Individuals with disabilities can obtain this document in an accessible format (e.g., braille, large print, audiotape, or compact disc) on request to the contact person listed in this section.

SUPPLEMENTARY INFORMATION:

Introduction

The Privacy Act (5 U.S.C. 552a) requires the Department to publish in the Federal Register this notice of a new system of records maintained by the Department. The Department's regulations implementing the Privacy Act are contained in part 5b of Title 34 of the Code of Federal Regulations (CFR).

The Privacy Act applies to any record about an individual that is maintained in a system of records from which individually identifying information is retrieved by a unique identifier associated with each individual, such as a name or Social Security Number. The information about each individual is called a “record,” and the system, whether manual or computer-based, is called a “system of records.”

The Privacy Act requires each agency to publish a notice of a system of records in the Federal Register and to prepare and send a report to OMB whenever the agency publishes a new system of records or makes a significant change to an established system of records. Each agency is also required to send copies of the report to the Chair of the Senate Committee on Homeland Security and Governmental Affairs and the Chair of the House Committee on Oversight and Government Reform. These reports are inc1uded to permit an evaluation of the probable effect of the proposal on the privacy rights of individuals.

The National Center for Education Evaluation and Regional Assistance at the Department's Institute of Education Sciences (IES) commissioned a study to conduct an evaluation of the impacts of two different experiments involving the Pell Grant eligibility criteria. The first experiment expands eligibility for Pell Grants to income-eligible students who already possess a bachelor's degree and who enroll in occupational training. The second experiment expands eligibility for Pell Grants to students who enroll in occupational programs that have a shorter duration than allowable under current rules. Both experiments are being implemented under the Experimental Sites Initiative (ESI), authorized by section 487A(b) of the Higher Education Act of 1965 (HEA) (20 U.S.C. 1094a(b)), which allows the Secretary to grant waivers from specific title IV HEA statutory or regulatory requirements to allow institutions to test alternative methods for administering those Federal student aid programs. The study will compare students with expanded access to Pell Grants to similar students who will not have access, in order to assess the effects of expanded Pell Grant access on educational attainment, employment, and earnings. It will be conducted under a contract that IES awarded in September 2012.

The study will provide credible and reliable information to help guide future policy decisions in the area of Federal financial aid. The central research questions that the study will address are: What is the impact of expanding Pell Grant eligibility on employment and earnings? Does it improve access to occupational training? How does it affect financial aid receipt and student debt?

The system will contain records on approximately 10,800 students from approximately 51 participating institutions of higher education.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: January 3, 2013.
John Q. Easton,
Director, Institute of Education Sciences.

For the reasons discussed in the preamble, the Director of the Institute of Education Sciences, U.S. Department of Education, publishes a notice of a new system of records to read as follows:

SYSTEM NUMBER:

18-13-31.

SYSTEM NAME:

Evaluation of the Pell Grants Experiments Under the Experimental Sites Initiative—2012.

SECURITY CLASSIFICATION:

None.

SYSTEM LOCATIONS:

(1) Evaluation Division, National Center for Education Evaluation and Regional Assistance, Institute of Education Sciences (IES), U.S. Department of Education, 555 New Jersey Avenue NW., room 502D, Washington, DC 20208-0001.

(2) Social Policy Research Associates, 1330 Broadway, Suite 1426, Oakland, CA 94612-2513 (contractor).

(3) Mathematica Policy Research, Inc., 600 Alexander Park, Princeton, NJ 08540-6346 (subcontractor).

CATEGORIES OF INDIVIDUALS COVERED BY THE SYSTEM:

The system will contain records on approximately 10,800 students from approximately 51 institutions of higher education.

CATEGORIES OF RECORDS IN THE SYSTEM:

The system of records includes individually identifying information about the students who agree to participate in the study. This information includes name, birth date, and contact information; demographic information such as race, ethnicity, gender, age, and educational background; the type of program in which the student is enrolled, the student's progress through the program (credits earned) including completion; methods used to pay for the education and training, including financial aid received and amount of student debt incurred; receipt of support services; and information on employment and earnings.

It is also our intention to include students' Social Security Numbers (SSNs) to obtain information on their financial aid and their employment and earnings; we expect to obtain the students' employment and earnings data from the administrative records of another Federal agency. Other methods for obtaining the information (i.e., self-reporting) have proven to be infeasible and unreliable. SSNs are necessary to obtain the needed employment and earnings data, and this method will place a low burden on students and will not be costly to the Federal government.

AUTHORITY FOR MAINTENANCE OF THE SYSTEM:

The study is authorized by section 487A(b)(2) of the Higher Education Act of 1965 (HEA), 20 U.S.C. 1094a(b)(2), which requires the Secretary of Education to review and evaluate the experiences of institutions that participate as experimental sites and to submit a biennial report based on the review and evaluation to the Committee on Health, Education, Labor, and Pensions of the Senate and the Committee on Education and Labor of the House of Representatives. The study is also authorized by section 173(a)(1)(A) of the Education Sciences Reform Act of 2002 (ESRA) (20 U.S.C. 9563(a)(1)(A)), which authorizes the National Center for Education Evaluation and Regional Assistance to conduct evaluations of Federal education programs administered by the Secretary and to determine the impact of such programs.

PURPOSE(S):

The information contained in the records maintained in this system will support an evaluation of the impacts of two different experimental expansions to the Pell Grant eligibility criteria. The first experiment expands eligibility for Pell Grants to income-eligible students who already possess a bachelor's degree and who enroll in occupational training, while the second experiment expands eligibility for Pell Grants to students who enroll in occupational programs that have a shorter duration than allowable under current rules. Both experiments are being implemented under the Experimental Sites Initiative (ESI), authorized by section 487A(b) of the HEA. The study will compare students with expanded access to Pell Grants to similar students who will not have access in order to assess the effects of expanded Pell Grant access on educational attainment, employment, and earnings. The study will address the following research questions:

1. What is the impact of expanding Pell Grant eligibility on employment and earnings? The ultimate goal of the study is to determine if providing Pell Grants for those with a bachelor's degree and for relatively short-term job training affects participants' job prospects and income levels.

2. Does it improve access to occupational training? Understanding whether the experiments made a difference in training enrollments will help in interpreting the presence or lack of earnings impacts.

3. How does it affect financial aid receipt and student debt? With student debt loads being an increasing public policy concern, expansions in Pell Grant eligibility are intended to reduce reliance on loans that may carry high interest levels. The study will examine the impacts of the experiments on the types and amounts of financial aid students receive and on their expenditures for education and training.

ROUTINE USES OF RECORDS MAINTAINED IN THE SYSTEM, INCLUDING CATEGORIES OF USERS AND THE PURPOSES OF SUCH USES:

The Department of Education (Department) may disclose information contained in a record in this system of records under the routine uses listed in this system of records without the consent of the individual if the disclosure is compatible with the purposes for which the record was collected. These disclosures may be made on a case-by-case basis or, if the Department has complied with the computer matching requirements of the Privacy Act of 1974, as amended (Privacy Act), under a computer matching agreement. Any disclosure of individually identifiable information from a record in this system must also comply with the requirements of section 183 of the ESRA (20 U.S.C. 9573) providing for confidentiality standards that apply to all collections, reporting, and publication of data by IES.

(1) Contract Disclosure. If the Department contracts with an entity for the purposes of performing any function that requires disclosure of records in this system to employees of the contractor, the Department may disclose the records to those employees. Before entering into such a contract, the Department shall require the contractor to maintain Privacy Act safeguards as required under 5 U.S.C. 552a(m) with respect to the records in the system.

(2) Federal Agency Disclosure. The Department may disclose records from this system of records to another Federal agency for the purposes of allowing that agency to provide assistance to the Department with the evaluation of a federally supported education program. Under the requirements of the Family Educational Rights and Privacy Act (FERPA), 20 U.S.C. 1232g and 34 CFR part 99, the Department will enter into an interagency agreement with the other Federal agency designating that agency as the Department's authorized representative before disclosing any personally identifiable information from any students' education records to that Federal agency. Under the terms of such an interagency agreement, the Federal agency will not be permitted to redisclose any personally identifiable information obtained from students' education records, and will be required to destroy any personally identifiable information from students' education records when no longer needed for the purposes of the evaluation as well as to maintain safeguards to protect the confidentiality of any personally identifiable information disclosed.

(3) Research Disclosure. The Director of the Institute of Education Sciences may disclose information from this system of records to qualified researchers solely for the purpose of carrying out specific research that is compatible with the purpose(s) of this system of records. The researcher shall be required to maintain safeguards under the Privacy Act of 1974 and section 183 of the ESRA (20 U.S.C. 9573(c)) with respect to such records. When personally identifiable information from a student's education record will be disclosed to the researcher under FERPA, the researcher also shall be required to comply with the requirements in the applicable FERPA exception to consent.

DISCLOSURE TO CONSUMER REPORTING AGENCIES:

Not applicable to this system of records.

POLICIES AND PRACTICES FOR STORING, RETRIEVING, ACCESSING, RETAINING, AND DISPOSING OF RECORDS IN THE SYSTEM:

STORAGE:

The Department maintains records on CD-ROM, and the contractor (Social Policy Research Associates) and sub-contractor (Mathematica Policy Research, Inc.) maintain data for this system on computers and in hard copy.

RETRIEVABILITY:

Records in this system are indexed and retrieved by a number assigned to each individual that is cross-referenced by the individual's name on a separate list.

SAFEGUARDS:

All physical access to the Department's site and to the site of the Department's contractor and subcontractor, where this system of records is maintained, is controlled and monitored by security personnel. The computer system employed by the Department offers a high degree of resistance to tampering and circumvention. This security system limits data access to Department and contract staff on a need-to-know basis, and controls individual users' ability to access and alter records within the system. The contractor and subcontractor will establish a similar set of procedures at its site to ensure confidentiality of data. The contractor's and subcontractor's systems are required to ensure that information identifying individuals is in files physically separated from other research data. The contractor and subcontractor will maintain security of the complete set of all master data files and documentation. Access to individually identifying data will be strictly controlled. All data will be kept in locked file cabinets during nonworking hours, and work on hardcopy data will take place in a single room, except for data entry. Physical security of electronic data will also be maintained. Security features that protect project data include: Password-protected accounts that authorize users to use the contractor's system but to access only specific network directories and network software; user rights and directory and file attributes that limit those who can use particular directories and files and determine how they can use them; and additional security features that the network administrators will establish for projects as needed. The contractor's and subcontractor's employees who “maintain” (collect, maintain, use, or disseminate) data in this system shall comply with the requirements of the confidentiality standards in section 183 of the ESRA (20 U.S.C. 9573).

RETENTION AND DISPOSAL:

Records are maintained and disposed of in accordance with the Department's Records Disposition Schedule 068 (NARA Disposition Authority N1-441-08-18).

SYSTEM MANAGER AND ADDRESS:

Associate Commissioner, Evaluation Division, National Center for Education Evaluation and Regional Assistance, Institute of Education Sciences, U.S. Department of Education, 555 New Jersey Avenue NW., room 502D, Washington, DC 20208-0001.

NOTIFICATION PROCEDURE:

If you wish to determine whether a record exists regarding you in the system of records, contact the systems manager. Your request must meet the requirements of regulations at 34 CFR 5b.5, including proof of identity.

RECORD ACCESS PROCEDURE:

If you wish to gain access to your record in the system of records, contact the system manager. Your request must meet the requirements of regulations at 34 CFR 5b.5, including proof of identity.

CONTESTING RECORD PROCEDURE:

If you wish to contest the content of a record regarding you in the system of records, contact the system manager. Your request must meet the requirements of the regulations at 34 CFR 5b.7, including proof of identity.

RECORD SOURCE CATEGORIES:

This system contains records on students participating in the Evaluation of the Pell Grant Experiments Under the Experimental Sites Initiative. Data will be obtained through student records maintained by participating institutions, a survey of students, data extracts from Free Applications for Federal Student Aid, and from the administrative records of another Federal agency with data on the students' earnings and employment outcomes.

EXEMPTIONS CLAIMED FOR THE SYSTEM:

None.

[FR Doc. 2013-00163 Filed 1-7-13; 8:45 am]

BILLING CODE P